NATIONAL TRANSPORTATION SAFETY BOARD

Notice of Correction

AGENCY: National Transportation Safety Board (NTSB).

ACTION: Notice; correction.

SUMMARY: The NTSB published a notice of the SES Performance Review Board in the Federal Register on October 4, 2016, titled: SES Performance Review Board. The notice contained an error. This document corrects the error.

FOR FURTHER INFORMATION CONTACT: Emily T. Carroll, Chief, Human Resources Division, Office of Administration, National Transportation Safety Board, 490 L'Enfant Plaza SW., Washington, DC 20594-0001, (202) 314-6233.

Correction

In the Federal Register of October 4, 2016, in FR Doc. 2016-23867, on page 68461, in the first column, add the following information before the last individual identified in the document:

David Tochen, General Counsel, National Transportation Safety Board (substitute only for Ms. Bryson's rating review)

Candi R. Bing,
Federal Register Liaison.

[FR Doc. 2016-24439 Filed 10-7-16; 8:45 am]

BILLING CODE 7533-01-P